DEPARTMENT OF COMMERCE

National Oceanic and Atmospheric Administration

RIN 0648-XD994

Fisheries of the South Atlantic; South Atlantic Fishery Management Council (SAFMC); Public Meetings

AGENCY: National Marine Fisheries Service (NMFS), National Oceanic and Atmospheric Administration (NOAA), Commerce.

ACTION: Notice of public input meetings of the South Atlantic Fishery Management Council's Visioning Project (Draft Vision Blueprint for the snapper grouper fishery).

SUMMARY: The South Atlantic Fishery Management Council (Council) will hold a series of public input meetings to collect input on the draft Vision Blueprint for the snapper grouper fishery as part of the Council Visioning Project. The meetings will be held via webinar and also utilize comment stations.

DATES: The public input meetings will be conducted in two parts—a series of webinars on each draft strategic goal and a series of webinars/comment stations on the entire draft Vision Blueprint. Meeting dates and comment station locations will be posted on the Council's Web site, and publicized.

Part 1—The first series of meetings will be conducted via webinar only from July 7 through July 9, 2015. The first series of webinars will be conducted beginning at 10 a.m. and again at 7 p.m. on the following dates:

1. July 7, 2015—Draft Strategic Goal Area—Science

2. July 8, 2015—Draft Strategic Goal Area- Management

3. July 9, 2015—Draft Strategic Goal Areas—Communication & Governance

Registration is required to participate and registration information will be posted on the SAFMC Web site at www.safmc.net as it becomes available. Webinar registrants may test/confirm their computer set up for the webinar one hour prior to each hearing and contact Mike Collins at (843) 763-1050 to address any questions regarding webinar setup.

Part 2—The second series of meetings will be conducted between July 13 and July 30, 2015 beginning at 6 p.m. via webinar/comment stations (see ADDRESSES). Details regarding the comment station locations will be posted to the Visioning Project page of the Council's Web site at www.safmc.net as they become available.

The public can participate in the meetings remotely by registering and participating via webinar or by attending the meeting in person at a comment station on the scheduled dates. Area Council representatives will be present at the comment stations to moderate the meetings. If participating by webinar, registration for each webinar is required. Registration information will be posted on the Visioning Project page on the Council's Web site at www.safmc.net.

ADDRESSES: Public input webinar meeting dates and local comment station addresses:

1. July 13, 2015—Local Comment Station: St. Augustine, FL (location to be determined);

2. July 14, 2015—Local Comment Station: Titusville, FL (location to be determined);

3. July 15, 2015—Local Comment Station: Stuart, FL (location to be determined);

4. July 16, 2015—Local Comment Station: Marathon, FL (location to be determined);

5. July 20, 2015—Local Comment Station: Murrells Inlet Community Center, 4450 Murrells Inlet Road, Murrells Inlet, SC; phone: (843) 651-7373;

6. July 21, 2015—Local Comment Station: Charleston, SC (location to be determined);

7. July 22, 2015—Local Comment Station: Sapelo Saltwater Fishing Club, Shellman Bluff, GA;

8. July 23, 2015—Local Comment Station: Coastal Resources Division, Georgia Department of Natural Resources, One Conservation Way, Brunswick, GA 31520-8687;

9. July 28, 2015—Local Comment Station: UNC Wilmington Center for Marine Science, Atrium Room 5600 Marvin K. Moss Lane, Wilmington, NC 28409; phone: (910) 962-2403;

10. July 29, 2015—Local Comment Station: NC Division of Marine Fisheries, Central District Office, 5285 Highway 70 West, Morehead City, NC 28557; phone: (252) 726-7021;

11. July 30, 2015—Local Comment Station: UNC Coastal Studies Institute, 850 N.C. Highway 345, Wanchese, NC 27981; phone: (252) 475-5488;

Council address: South Atlantic Fishery Management Council, 4055 Faber Place Drive, Suite 201, N. Charleston, SC 29405.

FOR FURTHER INFORMATION CONTACT: Amber Von Harten, Fishery Outreach Specialist, SAFMC; phone: (843) 571-4366 or toll free: (866) SAFMC-10; fax: (843) 769-4520; email: amber.vonharten@safmc.net.

SUPPLEMENTARY INFORMATION: The South Atlantic Fishery Management Council is developing a long-term “vision” and strategic plan for managing the snapper grouper fishery. In December 2012, the Council began discussions about the steps and structure needed for undertaking a visioning and strategic planning project and the process for engaging stakeholders in the project. The Council views this as a project to work cooperatively with all stakeholders having fishery interests. The visioning and strategic planning project will evaluate and refine current goals, objectives and strategies for managing the snapper grouper fishery through informed public input via the 26 port meetings held in 2014 and Council member input. The purpose of the draft Vision Blueprint public input meetings is to have informal discussions with the public about the draft Vision Blueprint document and the proposed draft strategic goals, objectives and strategies. The schedule of meetings and documents pertaining to the Draft Vision Blueprint will be available under the Visioning Project page on the Council's Web site at www.safmc.net.

During the webinars, Council staff will present an overview of the draft strategic goal areas and the draft Vision Blueprint and will be available for informal discussions and to answer questions via webinar. During the local comment stations, area Council representatives will be present and available for informal discussions and to answer questions. All webinars will be recorded and used to collect input on the Draft Vision Blueprint.

Written comments may be mailed, emailed, or submitted online using the Draft Vision Blueprint web comment form available on the Council's Web site. The Draft Vision Blueprint web comment form will be available under the Visioning Project page on the Council's Web site at www.safmc.net. Comments may be mailed to Amber Von Harten, SAFMC (see ADDRESSES) or submitted via email to: Mike.Collins@safmc.net. Note that email comments should specify “Draft Vision Blueprint” in the Subject Line of the email. Comments for the Draft Vision Blueprint will be accepted until 5 p.m. on September 1, 2015.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: June 16, 2015.
Tracey L. Thompson,
Acting Deputy Director, Office of Sustainable Fisheries, National Marine Fisheries Service.

[FR Doc. 2015-15135 Filed 6-18-15; 8:45 am]

BILLING CODE 3510-22-P